SMALL BUSINESS ADMINISTRATION

Senior Executive Service: Performance Review Board Members

AGENCY: U.S. Small Business Administration.

ACTION: Notice of Members for the FY 2010 Performance Review Board.

SUMMARY: Title 5 U.S.C. 4314(c)(4) requires each agency to publish notification of the appointment of individuals who may serve as members of that Agency's Performance Review Board (PRB). The following individuals have been designated to serve on the FY 2010 Performance Review Board for the U.S. Small Business Administration.

1. David B. Robbins, Chair, Associate Administrator for Management and Administration.

2. Jonathan I. Carver, Chief Financial Officer and Associate Administrator for Performance Management.

3. James E. Rivera, Deputy Associate Administrator for Disaster Assistance.

4. Sara D. Lipscomb, General Counsel.

5. Ana M. Ma, Chief of Staff.

Karen G. Mills,
Administrator.

[FR Doc. 2010-29611 Filed 11-23-10; 8:45 am]

BILLING CODE 8025-01-P